DEPARTMENT OF JUSTICE

Drug Enforcement Administration

[Docket No. DEA-913]

Bulk Manufacturer of Controlled Substances Application: Chattem Chemicals

AGENCY: Drug Enforcement Administration, Justice.

ACTION: Notice of application.

SUMMARY: Chattem Chemicals has applied to be registered as a bulk manufacturer of basic class(es) of controlled substance(s). Refer to SUPPLEMENTARY INFORMATION listed below for further drug information.

DATES: Registered bulk manufacturers of the affected basic class(es), and applicants therefore, may file written comments on or objections to the issuance of the proposed registration on or before December 21, 2021. Such persons may also file a written request for a hearing on the application on or before December 21, 2021.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on July 23, 2021, Chattem Chemicals, 3801 Saint Elmo Avenue, Chattanooga, Tennessee 37409-1237, applied to be registered as a bulk manufacturer of the following basic class(es) of controlled substance(s):

Controlled substance | Drug code | Schedule
Gamma Hydroxybutyric Acid | 2010 | I
Marihuana | 7360 | I
Tetrahydrocannabinols | 7370 | I
4-Methoxyamphetamine | 7411 | I
Noroxymorphone | 9145 | I
Amphetamine | 1100 | II
Methamphetamine | 1105 | II
Lisdexamfetamine | 1205 | II
Methylphenidate | 1724 | II
Cocaine | 9041 | II
Codeine | 9050 | II
Dihydrocodeine | 9120 | II
Oxycodone | 9143 | II
Hydromorphone | 9150 | II
Ecgonine | 9180 | II
Hydrocodone | 9193 | II
Levorphanol | 9220 | II
Methadone | 9250 | II
Methadone intermediate | 9254 | II
Morphine | 9300 | II
Oripavine | 9330 | II
Thebaine | 9333 | II
Oxymorphone | 9652 | II
Noroxymorphone | 9668 | II
Alfentanil | 9737 | II
Remifentanil | 9739 | II
Sufentanil | 9740 | II
Tapentadol | 9780 | II
Fentanyl | 9801 | II

The company plans to manufacture the listed controlled substances in bulk for distribution and sale to its customers. In reference to drug code 7360 (Marihuana) and 7370 (Tetrahydrocannabinols), the company plans to bulk manufacture these drugs as a synthetic.

No other activities for this drug code are authorized for this registration.

Brian S. Besser,
Acting Assistant Administrator.

[FR Doc. 2021-23037 Filed 10-21-21; 8:45 am]

BILLING CODE P